DEPARTMENT OF TRANSPORTATION

Federal Aviation Administration

Forty-Second Meeting: RTCA Special Committee (206) Aeronautical Information and Meteorological Data Link Services

AGENCY: Federal Aviation Administration (FAA), U.S. Department of Transportation (DOT).

ACTION: Notice of Forty-Second RTCA Special Committee 206 Meeting.

SUMMARY: The FAA is issuing this notice to advise the public of the Forty-Second RTCA Special Committee 206 meeting.

DATES: The meeting will be held December 7th-11th from 8:30 a.m.-5:00 p.m.

ADDRESSES: The meeting will be held at RTCA, Inc., 1150 18th Street NW., Suite 910, Washington, DC 20036, Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a) (2) of the Federal Advisory Committee Act (Pub. L. 92-463, 5 U.S.C., App.), notice is hereby given for a meeting of RTCA Special Committee 206. The agenda will include the following:

Monday, December 7, 2015

1. Opening Plenary

a. Opening remarks: DFO, RTCA, Chairman, and Hosts

b. Attendees' introductions

c. Review and approval of meeting agenda

d. Approval of previous meeting minutes (Chicago, IL)

e. Action item review

f. Final TOR Changes

g. Sub-Groups' reports (SG1/6: MASPS, SG4: EDR, & SG7: Winds)

h. Industry presentations

i. Aircraft Access to SWIM (AAtS) Technology Transfer Package report, Robert Klein, FAA ANG-B2

2. Sub-Groups Meetings

Tuesday-Thursday, December 8-10, 2015

1. Sub-Groups Meetings

Friday, December 11, 2015

1. Closing Plenary

a. Sub-Groups' reports

b. Future meetings plans and dates

c. Industry coordination

d. SC-206 action item review

e. Other business

2. Adjourn

Attendance is open to the interested public but limited to space availability. With the approval of the chairman, members of the public may present oral statements at the meeting. Plenary information will be provided upon request. Persons wishing to present statements or obtain information should contact the person listed in the FOR FURTHER INFORMATION CONTACT section. Members of the public may present a written statement to the committee at any time.

Issued in Washington, DC, on November 10, 2015.
Latasha Robinson,
Management & Program Analyst, Next Generation, Enterprise Support Services Division, Federal Aviation Administration.

[FR Doc. 2015-29387 Filed 11-17-15; 8:45 am]

BILLING CODE 4910-13-P